SURFACE TRANSPORTATION BOARD

[Docket No. FD 33043 (Sub-No. 1)]

CSX Transportation, Inc.—Trackage Rights Exemption—Paducah & Louisville Railway, Inc.

CSX Transportation, Inc. (CSXT), a Class I rail carrier, has filed a verified notice of exemption under 49 CFR 1180.2(d)(7) to extend the term of its overhead trackage rights over a 24.0-mile line of the Paducah & Louisville Railway, Inc. (PAL) (the Line). The trackage rights are between just west of Madisonville, Ky., PAL milepost 146, and just east of Central City, Ky., PAL milepost 122, in Hopkins and Muhlenberg Counties, Ky.

CSXT states that the parties entered into an agreement as of August 19, 1996 (Agreement), in which PAL granted CSXT overhead trackage rights over the Line for a limited term. See CSX Transp., Inc.—Trackage Rights Exemption—Paducah & Louisville Ry., FD 33043 (STB served Sept. 6, 1996). CSXT and PAL have entered Amendment No. 1, dated February 15, 2019, to amend Section 6 of the Agreement to extend the term of the trackage rights over the Line “until terminated by mutual consent of the parties.” ¹ CSXT states that no other terms of the Agreement have been changed and that the extension of the term of the trackage rights over the Line will be pursuant to Amendment No. 1 and is not sought as a responsive application in a rail consolidation.

¹ A copy of the executed Amendment No. 1 was filed with the notice as Exhibit A.

The transaction may be consummated on or after March 28, 2019, the effective date of the exemption (30 days after the verified notice was filed).

As a condition to this exemption, any employees affected by the extension of the term of trackage rights will be protected by the conditions imposed in Norfolk & Western Railway—Trackage Rights—Burlington Northern, Inc., 354 I.C.C. 605 (1978), as modified in Mendocino Coast Railway—Lease & Operate—California Western Railroad, 360 I.C.C. 653 (1980).

If the verified notice contains false or misleading information, the exemption is void ab initio. Petitions to revoke the exemption under 49 U.S.C. 10502(d) may be filed at any time. The filing of a petition to revoke will not automatically stay the effectiveness of the exemption. Petitions for stay must be filed no later than March 21, 2019 (at least seven days before the exemption becomes effective).

An original and ten copies of all pleadings, referring to Docket No. FD 33043 (Sub-No. 1), must be filed with the Surface Transportation Board, 395 E Street SW, Washington, DC 20423-0001. In addition, a copy of each pleading must be served on Louis E. Gitomer, Law Offices of Louis E. Gitomer, LLC, 600 Baltimore Avenue, Suite 301, Towson, MD 21204.

Board decisions and notices are available at www.stb.gov.

Decided: March 11, 2019.
By the Board, Allison C. Davis, Acting Director, Office of Proceedings.
Jeffrey Herzig,
Clearance Clerk.

[FR Doc. 2019-04728 Filed 3-13-19; 8:45 am]

BILLING CODE 4915-01-P